DEPARTMENT OF EDUCATION

34 CFR Chapter II

[Docket ID ED-2023-OCTAE-0048]

Proposed Priorities, Requirements, Definitions, and Selection Criteria—Perkins Innovation and Modernization Grant Program

AGENCY: Office of Career, Technical, and Adult Education, Department of Education.

ACTION: Proposed priorities, requirements, definitions, and selection criteria.

SUMMARY: The Department of Education (Department) proposes priorities, requirements, definitions, and selection criteria for the Perkins Innovation and Modernization Grant Program, Assistance Listing Number 84.051F. The Department may use the priorities, requirements, definitions, and selection criteria for competitions in fiscal year (FY) 2023 and later years. We take this action to support the identification of strong and well-designed projects that will incorporate evidence-based and innovative strategies and activities to improve student success in secondary education, postsecondary education, and careers.

DATES: We must receive your comments on or before June 15, 2023.

ADDRESSES: Comments must be submitted via the Federal eRulemaking Portal at regulations.gov. However, if you require an accommodation or cannot otherwise submit your comments via regulations.gov, please contact the program contact person listed under FOR FURTHER INFORMATION CONTACT. The Department will not accept comments by fax or by email, or comments submitted after the comment period closes. To ensure that we do not receive duplicate copies, please submit your comments only once. In addition, please include the Docket ID at the top of your comments.

Federal eRulemaking Portal: Please go to www.regulations.gov to submit your comments electronically. Information on using regulations.gov, including instructions for finding a rule on the site and submitting comments, is available on the site under “FAQ.”

Privacy Note: The Department's policy is to make all comments received from members of the public available for public viewing on the Federal eRulemaking Portal at www.regulations.gov. Therefore, commenters should be careful to include in their comments only information that they wish to make publicly available.

FOR FURTHER INFORMATION CONTACT: Corinne Sauri, U.S. Department of Education, 400 Maryland Avenue SW, Room 10-362, PCP, Washington, DC 20202-7241. Telephone: (202) 245-6412. Email: PIMGrants@ed.gov.

If you are deaf, hard of hearing, or have a speech disability and wish to access telecommunications relay services, please dial 7-1-1.

SUPPLEMENTARY INFORMATION:

Invitation to Comment: We invite you to submit comments regarding this notice. To ensure that your comments have maximum effect in developing the notice of final priorities, requirements, definitions, and selection criteria, we urge you to identify clearly the specific proposed priority, requirement, definition, or selection criterion your comment addresses.

We invite you to assist us in complying with the specific requirements of Executive Orders 12866 (as modified by Executive Order 14094) and 13563 and their overall requirement of reducing regulatory burden that might result from the proposed priorities, requirements, definitions, and selection criteria. Please let us know of any further opportunities we should take to reduce potential costs or increase potential benefits while preserving the effective and efficient administration of the program.

During and after the comment period, you may inspect all public comments about the proposed priorities, requirements, definitions, and selection criteria by accessing regulations.gov. To inspect comments in person, please contact the person listed under FOR FURTHER INFORMATION CONTACT.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Perkins Innovation and Modernization Grant Program (PIM) is to identify, support, and independently evaluate evidence-based and innovative strategies and activities to improve and modernize career and technical education (CTE). The Department anticipates using the PIM authority beginning in FY 2023 to award competitive grants to support Career Connected High Schools (CCHS) that will transform public high schools by expanding existing and implementing new strategies and supports to help their students identify and navigate pathways to postsecondary education and career preparation, accrue college credit, pursue in-demand and high-value industry-recognized credentials, and gain direct experience in the workplace through work-based learning.

Program Authority: Section 114(e) of the Carl D. Perkins Career and Technical Education Act of 2006, as amended by the Strengthening Career and Technical Education for the 21st Century Act (Perkins V) (20 U.S.C. 2324).

Proposed Priorities

This notice contains five proposed priorities. We may apply one or more of these priorities for a PIM competition in FY 2023 or in subsequent years.

Proposed Priorities:

Proposed Priority 1—Career-Connected High Schools

Background:

The misalignment of the secondary and postsecondary education systems in the United States (U.S.), along with an inadequately funded workforce development system, contributes to inequities for young people to pursue postsecondary education and launch careers that support economic and social mobility in our nation.¹ As a result, too many young people leave high school unprepared for postsecondary education or careers. An estimated 4.8 million youth ages 16 to 24 are disconnected, neither working nor in school, comprising more than one in 10 (12.6 percent) of U.S. youth in this age group.² These young people are disproportionately from communities of color. Nearly one in four (23.4 percent) Native American teenagers and young adults are neither working nor in school, the highest rate of disconnection of the five major racial and ethnic groups for which data were collected, followed by Black teenagers and young adults, who have the second-highest rate of disconnection from school and work (19.6 percent), or nearly 1 million young people.³ Another 1.3 million disconnected youth are Hispanic, comprising 14.0 percent of Hispanic teenagers and young adults.⁴

¹ Hoffman, N., Vargas, J. et al. (2021), The Big Blur: An Argument for Erasing the Boundaries Between High School, College, and Careers—and Creating One New System That Works for Everyone. Boston, MA: Jobs for the Future. Retrieved from: https://www.jff.org/resources/the-big-blur-an-argument-for-erasing-the-boundaries-between-high-school-college-and-careers-and-creating-one-new-system-that-works-for-everyone/.

² Lewis, Kristen (2022), A Disrupted Year: How the Arrival of COVID-19 Affected Youth Disconnection. New York: Measure of America, Social Science Research Council. Retrieved from: https://measureofamerica.org/youth-disconnection-2022/.

³ Ibid.

⁴ Ibid.

The road to and through postsecondary education or training is also particularly difficult to navigate for youth from low-income communities. For example, among students attending the nearly 9,000 high schools participating in the National Student Clearinghouse's StudentTracker for High Schools service during the 2020-21 school year, 46 percent of students who graduated from high-poverty high schools (where at least 75 percent of the student population was eligible for a free or reduced-price lunch) enrolled in postsecondary education immediately following high school graduation. In contrast, the immediate postsecondary education enrollment rate was 72 percent for students attending low-poverty high schools (where fewer than 25 percent of students were eligible for a free or reduced-price lunch). The difference in postsecondary degree completion rates between students attending high- and low-poverty high schools was even more stark: only 25 percent of graduates from high-poverty high schools earned a postsecondary degree within 6 years of finishing high school, compared to 61 percent of students from low-poverty high schools.⁵

⁵ National Student Clearinghouse Research Center (2022). National College Progression Rates. Retrieved from: https://nscresearchcenter.org/high-school-benchmarks/.

Addressing the difficulties young people from high-poverty communities experience as they try to access, navigate, and complete postsecondary education is a national priority because postsecondary educational attainment has become a passport to economic independence and success. The Georgetown University Center on Education and the Workforce (Georgetown CEW) estimates that a postsecondary credential is now required to access 80 percent of what it describes as “good jobs”—that is, according to Georgetown CEW, jobs paying a minimum of $35,000 for workers between the ages of 25 and 44 and at least $45,000 for workers between the ages of 45 and 64.⁶ Moreover, many “good jobs” that Georgetown CEW identified as accessible to individuals with a high school credential also require some form of technical training that extends beyond what is often available in high school. Carpentry and solar photovoltaic installer jobs typically require formal on-the-job training, for example.⁷ Earning a high school diploma is an important achievement, but young people need further learning to succeed in our economy.

⁶ Carnevale, A.P., Strohl, J. et al. (2018), Three Educational Pathways to Good Jobs. Washington, DC: Georgetown University Center on Education and the Workforce. Retrieved from: https://cew.georgetown.edu/cew-reports/3pathways/.

⁷ National Center for O*NET Development, (n.d.), O*NET OnLine. Retrieved from: https://www.onetonline.org/.

Increasing postsecondary educational attainment can strengthen and expand local economies by attracting new industry and taking advantage of new job opportunities like those created by the Infrastructure Investment and Jobs Act (Pub. L. 117-58),⁸ CHIPS and Science Act (Pub. L. 117-167),⁹ and the Inflation Reduction Act (Pub. L. 117-169),¹⁰ and can increase the wages of workers who do not have postsecondary credentials by increasing productivity.¹¹ Eliminating equity gaps in postsecondary educational attainment will also promote inclusive national economic prosperity. For example, in an analysis prepared for the Postsecondary Value Commission, Georgetown CEW estimated that closing gaps in postsecondary educational attainment by income level, race, and ethnicity could increase the Gross Domestic Product of the U.S. by $542 billion annually.¹²

⁸ Office of the President (Aug. 3, 2021), Fact Sheet: The Bipartisan Infrastructure Investment and Jobs Act Creates Good-Paying Jobs and Supports Workers. Retrieved from: https://www.whitehouse.gov/briefing-room/statements-releases/2021/08/03/fact-sheet-the-bipartisan-infrastructure-investment-and-jobs-act-creates-good-paying-jobs-and-supports-workers/.

⁹ Office of the President (Aug. 9, 2022), Fact Sheet: CHIPS and Science Act Will Lower Costs, Create Jobs, Strengthen Supply Chains, and Counter China. Retrieved from: https://www.whitehouse.gov/briefing-room/statements-releases/2022/08/09/fact-sheet-chips-and-science-act-will-lower-costs-create-jobs-strengthen-supply-chains-and-counter-china/.

¹⁰ Office of the President (Aug. 19, 2022), Fact Sheet: The Inflation Reduction Act Supports Workers and Families. Retrieved from: https://www.whitehouse.gov/briefing-room/statements-releases/2022/08/19/fact-sheet-the-inflation-reduction-act-supports-workers-and-families/.

¹¹ Moretti, E. (2004), Estimating the social return to higher education: Evidence from longitudinal and repeated cross-sectional data. Journal of Econometrics, vol.121, 175-212. Retrieved from: https://eml.berkeley.edu/~moretti/socret.pdf.

¹² Carnevale, A.P., Campbell, K.P. et al. (2021), The monetary value of economic and racial justice in postsecondary education: Quantifying the potential for public good. Postsecondary Value Commission. Retrieved from: https://www.postsecondaryvalue.org/wp-content/uploads/2021/05/PVC-GUCEW-FINAL.pdf.

To prepare all young people more equitably and effectively for further learning and economic advancement, our high schools require new solutions and tools to scale up strategies that have benefitted all students. Proposed Priority 1 identifies the following four pillars for transformed, career-connected high schools that, if implemented and integrated effectively and equitably, will better prepare all young people for postsecondary education and rewarding careers:

• Participation in a comprehensive postsecondary education and career navigation system that supports career exploration and education planning, provides information and assistance in pursuing further learning after high school, and includes the development and regular updating of a personalized postsecondary education and career plan (as defined in this notice) throughout high school;

• Acquisition of postsecondary credit through dual or concurrent enrollment programs (as defined in section 3 of Perkins V) to promote success in postsecondary coursework and give students a head start in earning a postsecondary credential;

• Participation in work-based learning opportunities (as defined in section 3 of Perkins V) for which students receive wages or academic credit, or both; and

• Attainment of an in-demand and high-value industry-recognized credential (as defined in this notice) so that every young person can earn a living wage or more after high school, be able to pursue further education, and thrive and live independently.

Postsecondary Education and Career Navigation System

The systematic delivery of career advisement, academic counseling, and postsecondary education navigation throughout high school can lay a strong foundation for student success during and following high school. Assistance navigating the complexities of pursuing different types of postsecondary learning, such as a high-value industry-recognized credential program, Registered Apprenticeship program, and 2- and 4-year degree programs, is especially important. There is promising evidence that meeting with a school counselor to discuss college plans can increase students' postsecondary enrollment, particularly for students from more underserved backgrounds.¹³ Evidence also indicates that informing students about financial aid opportunities and helping them to complete financial aid applications significantly increases postsecondary enrollment.¹⁴ Advice and support provided outside school by nonprofit organizations also can have a positive influence on student enrollment in higher education.¹⁵

¹³ Belasco, A. S. (2013), “Creating college opportunity: School counselors and their influence on postsecondary outcomes.” Research in Higher Education, 54(7), 781-804. Retrieved from: https://link.springer.com/article/10.1007/s11162-013-9297-4. See also Surr, W. (2019), Student Advising: An Evidence-Based Practice. Midwest Comprehensive Center at the American Institutes for Research. Retrieved from: https://eric.ed.gov/?id=ED599037.

¹⁴ Tierney, W. G., Bailey, T., Constantine, J., Finkelstein, N., & Hurd, N. F. (2009), Helping students navigate the path to college: What high schools can do: A practice guide (NCEE #2009-4066). Washington, DC: National Center for Education Evaluation and Regional Assistance, Institute of Education Sciences, U.S. Department of Education. Retrieved from http://ies.ed.gov/ncee/wwc/publications/practiceguides/.

¹⁵ What Works Clearinghouse, Institute of Education Sciences, U.S. Department of Education. (2018, December). Transition to College intervention report: Facilitating Long-Term Improvements in Graduation and Higher Education for Tomorrow (FLIGHT)/Take Stock in Children (TSIC)®. Retrieved from https://whatworks.ed.gov. See also What Works Clearinghouse, Institute of Education Sciences, U.S. Department of Education. (2021, April). Bottom Line. Retrieved from https://whatworks.ed.gov.

Personalized postsecondary education and career plans (as defined in this notice) can be a valuable part of providing systematic advising and navigation supports to students. Twenty-nine states and the District of Columbia and many local educational agencies (LEAs) require students to prepare personalized postsecondary education and career plans in middle or high school to chart their path through high school into young adulthood.¹⁶ An analysis of the most recent National Center for Education Statistics (NCES) high school longitudinal study found that about 62 percent of public high school students reported developing such a plan by the fall of grade 9. However, fewer students reported receiving support from an adult to complete this plan (44 percent) and fewer still (22 percent) reported reviewing their plan at least once a year with an adult in school. Attention from adults in reviewing and annually updating their plans may be a promising strategy as the activity was positively associated with applying to and enrolling in postsecondary education after high school.¹⁷ Analyzing the same data using a quasi-experimental research design, researchers found that students from low-income backgrounds who had a personalized learning plan, compared to peers from low-income backgrounds who did not complete a plan, were more likely to enroll in bachelor's degree or associate degree programs and to complete the Free Application for Federal Student Aid (FAFSA®), as well as more likely to borrow smaller amounts in student loans.¹⁸ Another study using the same data found that students who completed a personalized learning plan in ninth grade were more engaged in school in grade 11 and less likely to report behaviors like skipping classes and not completing homework than peers who did not have a plan.¹⁹

¹⁶ Solberg, V. S. H., Donnelly, H. K., Kroyer-Kubicek, R., Basha, R., Curtis, G., Jaques, E., Schreiber, K. (2022), Condition of Career Readiness in the United States. Alexandria, VA: Coalition for Career Development Center and the BU Center for Future Readiness. Retrieved from: https://www.ccd-center.org/post/condition-of-career-readiness-report.

¹⁷ Torre Gibney, T., & Rauner, M. (2021), Education and career planning in high school: A national study of school and student characteristics and college-going behaviors (REL 2022-127). U.S. Department of Education, Institute of Edu-cation Sciences, National Center for Education Evaluation and Regional Assistance, Regional Educational Laboratory West. Retrieved from: https://ies.ed.gov/ncee/edlabs/regions/west/pdf/REL_2022127.pdf.

¹⁸ Britton, T. and Spencer, G. (2020), “Do Students Who Fail to Plan, Plan to Fail? Effects of Individualized Learning Plans on Postsecondary Transitioning.” Teachers College Record. Volume 122, 050309, May 2020, Teachers College, Columbia University. Retrieved from: https://journals.sagepub.com/doi/abs/10.1177/016146812012200509.

¹⁹ Plasman, J.S. (2018), “Career/Education Plans and Student Engagement in Secondary School,” American Journal of Education 124 (February 2018). Chicago, IL: The University of Chicago. Retrieved from: https://www.journals.uchicago.edu/doi/full/10.1086/695608.

Dual or Concurrent Enrollment. Dual or concurrent enrollment is a proven, evidence-based strategy to increase high school achievement and completion and to increase and accelerate postsecondary enrollment and credential attainment.²⁰ These opportunities can be most beneficial to students when they include core academic courses—such as first-year college English and mathematics courses ²¹—as well as courses aligned to careers.²² Research also suggests that the benefits of dual enrollment can increase with every postsecondary credit earned, at least up to 10 to 12 credits.²³ To gain these benefits, however, students need credits earned through dual or concurrent enrollment to transfer to the institution of higher education (IHE) in which they enroll and within the degree program they pursue after high school. To promote the portability of credits earned through dual or concurrent enrollment, some States have established policies and programs to facilitate credit transfer, such as the Indiana College Core (ICC), which is a block of 30 credit hours of general education, college-level coursework that can be transferred among all Indiana public colleges and universities. ICC dual credit courses are available at 140 high schools in the State.²⁴ Some States ²⁵ and community and technical colleges also have developed crosswalks for students, their families, and their advisors to map course equivalencies between institutions, and “guided pathways” that show how courses lead to specific degrees and careers, so students can take courses that align with their plans after high school.²⁶

²⁰ What Works Clearinghouse, Institute of Education Sciences, U.S. Department of Education (2017), Dual Enrollment Programs: WWC Intervention Report. Retrieved from: https://ies.ed.gov/ncee/wwc/Docs/InterventionReports/wwc_dual_enrollment_022817.pdf.

²¹ Villarreal, M. U. (2017), The effects of dual-credit on postsecondary student outcomes. University of Texas at Austin, Education Research Center. Retrieved from: https://texaserc.utexas.edu/wp-content/uploads/2017/12/65-Brief-Villarreal-HB18-PB-11.16.17.pdf. See also Giani, M. S., Alexander, C., & Reyes, P. (2014). Exploring the variation in the impact of dual-credit coursework on postsecondary outcomes: A quasi-experimental analysis of Texas students. The High School Journal, 97(4), 200-218. Retrieved from: https://doi.org/10.1353/hsj.2014.0007.

²² Community College Research Center (2012), What We Know About Dual Enrollment Report. Retrieved From: https://ccrc.tc.columbia.edu/publications/what-we-know-about-dual-enrollment.html. See also Rodriguez, O., Hughes, K. L., & Belfield, C. (2012), Bridging college and careers: Using dual enrollment to enhance Career and Technical Education pathways. (National Center for Postsecondary Research Working Paper). Retrieved from: https://files.eric.ed.gov/fulltext/ED533873.pdf.

²³ Taylor, J. L., Allen, T. O., An, B. P., Denecker, C., Edmunds, J. A., Fink, J., Giani, M. S., Hodara, M., Hu, X., Tobolowsky, B. F., & Chen, W. (2022), Research priorities for advancing equitable dual enrollment policy and practice. Salt Lake City, UT: University of Utah. Retrieved from: https://cherp.utah.edu/_resources/documents/publications/research_priorities_for_advancing_equitable_dual_enrollment_policy_and_practice.pdf

²⁴ Indiana College Core and Dual Credit, Learn More Indiana. Retrieved from: https://learnmoreindiana.org/college/dual-credit.

²⁵ Indiana Commission for Higher Education. (2021). Indiana early college credit report. Retrieved from: https://www.in.gov/che/files/2021_Early_College_Credit_Report_01_28_2021.pdf.

²⁶ Mehl, G., Wyner, J., Barnett, E. A., Fink, J., & Jenkins, D. (2020), The dual enrollment playbook: A guide to equitable acceleration for students. Aspen Institute and Community College Research Center. Retrieved from: https://ccrc.tc.columbia.edu/publications/dual-enrollment-playbook-.

Unfortunately, the opportunity to participate in dual or concurrent enrollment has been limited to a small group of students, leaving too many students unable to access the benefits dual or concurrent enrollment has to offer. Among the high school class of 2019, only about one-third of white students, about one-quarter of Asian, Native American, and Hispanic students, and less than a fifth of Black students took one or more dual enrollment courses during their time in high school.²⁷ Other research has documented that students from low-income backgrounds are significantly underrepresented among dual enrollment course takers.²⁸

²⁷ U.S. Department of Education, Institute of Education Sciences, National Center for Education Statistics, National Assessment of Educational Progress (2022), 2019 NAEP High School Transcript Study (HSTS) Results: A Closer Look, Retrieved from: https://www.nationsreportcard.gov/hstsreport/#closerlook_3_0_el. Dual credit course-taking by Native American students tabulated using the Data Explorer for the High School Transcript Study at: https://www.nationsreportcard.gov/ndecore/xplore/hsts.

²⁸ See, for example, Lochmiller, C. R., et al. (2016), Dual enrollment courses in Kentucky: High school students' participation and completion rates (REL 2016-137). Washington, DC: U.S. Department of Education, Institute of Education Sciences, Retrieved from http://ies.ed.gov/ncee/edlabs/regions/appalachia/pdf/REL_2016137.pdf. Also see Miller, Trey, et al. (2017), Dual Credit Education in Texas: Interim Report, RAND Corporation. Retrieved from: https://www.rand.org/pubs/research_reports/RR2043.html.

Work-Based Learning. Work-based learning reinforces academic instruction by giving students opportunities to apply knowledge and skills in real-world situations and to learn how to be professionals at work. Work-based learning can also help young people generate income, establish future earning potential, connect with professionals and mentors in the labor market, and build professional networks.²⁹ Well-designed internships, pre-apprenticeships, and Registered Apprenticeships in which young people also receive one-to-one coaching support from a caring adult and support for planning life after high school can have a positive influence on their futures. For example, a random assignment evaluation of the Urban Alliance internship program that chiefly served students from low-income backgrounds and whose overall average cumulative junior year GPA was 2.7 found strong and enduring impacts on the educational attainment of young men. The internship increased their likelihood of on-time high school graduation, enrollment in postsecondary education, and their attainment of an associate degree or persistence into the third year of college.³⁰ Other research suggests that the benefits of work-based learning during adolescence can continue well into adulthood. Using data from the National Longitudinal Survey of Youth of 1997 and a quasi-experimental research design, researchers found that, for young people from low-income backgrounds, participation in work-based learning—such as cooperative education, an internship, or Registered Apprenticeship—or in an employer mentorship program in high school was associated with holding a high-quality job at age 29, as measured by wages, benefits, hours, and job satisfaction.³¹

²⁹ See, for example, National Academy Foundation (2017). Guide to Work-Based Learning: A Continuum of Activities and Experience. New York, NY: National Academy Foundation. Retrieved from: http://ioer.ilsharedlearning.org/ContentDocs/bc2cc184-41bf-464b-a363-11a554da4126/303/Guide_to_Work-Based_Learning.pdf; and Ross, M., Kazis, R., Bateman, N., and Stateler, L. (2020). Work-Based Learning Can Advance Equity and Opportunity for America's Young People. Washington, DC: Brookings Institution. Retrieved from: https://www.brookings.edu/research/work-based-learning-can-advance-equity-and-opportunity-for-americas-young-people/.

³⁰ Theodos, B., Pergamit, M.R. et al. (2017), Pathways after High School: Evaluation of the Urban Alliance High School Internship Program. Washington, DC: Urban Institute. Retrieved from: https://www.urban.org/research/publication/pathways-after-high-school-evaluation-urban-alliance-high-school-internship-program.

³¹ Ross, M., Anderson Moore, K., et al. (2018), Pathway to High Quality Jobs for Young Adults. Washington, DC; Metropolitan Policy Program at Brookings and Child Trends. Retrieved from: http://www.brookings.edu/research/pathways-to-high-quality-jobs-for-young-adults/.

Industry-Recognized Credential. Education programs that incorporate the opportunity to earn an in-demand and high-value industry-recognized credential can give young people a leg up in the labor market when they graduate from high school, particularly if schools are discerning and only offer programs that lead to credentials that are in high demand and for which there is a significant earnings premium. This is particularly important for young people who choose not to pursue further learning immediately after high school ³² or those who choose to work and learn simultaneously. Earning an industry-recognized credential also may be valuable in promoting postsecondary enrollment and advancement; several studies have found a positive association between earning an industry-recognized credential while in high school and enrollment in postsecondary education, as well as completion of an associate degree.³³ Scrutinizing the value added by particular industry-recognized credentials also is important, because many in the universe of more than 7,500 occupational certifications ³⁴ are not sought by employers. One study that examined 16 million job postings from employers found that 1.4 million postings asked for at least one of nearly 2,500 distinct certifications. Employer demand was concentrated on a small subset of these credentials, with 4 percent of the employer-requested credentials accounting for 75 percent of the total demand.³⁵

³² For example, the labor force participation rate of high school graduates with a certification or professional license, but no further education, is 35 percent higher than the participation rate of high school graduates who lack one of these credentials, and their median weekly earnings are 17 percent higher. See Cunningham, Eva (2019), “Professional certifications and occupational licenses: evidence from the Current Population Survey,” Monthly Labor Review, June 2019, Bureau of Labor Statistics, U.S. Department of Labor. Retrieved from: https://www.bls.gov/opub/mlr/2019/article/professional-certifications-and-occupational-licenses.htm.

³³ Walsh, M., O'Kane, L. et al. (2019), Where Credentials Meet the Market: State Case Studies on the Effect of High School Industry Credentials on Educational and Labor Market Outcomes. ExcelinEd and Burning Glass Technologies. Retrieved from: https://excelined.org/wp-content/uploads/2019/05/ExcelinEdBurningGlassTechnologies.CredentialsMatter.WhereCredentialsMeetTheMarket.June2019.pdf; Glennie, E.J., Ottem, R., and Lauff, E. (2020), “The Influence of Earning an Industry Certification in High School on Going to College: The Florida CAPE Act,” Journal of Career and Technical Education 2020, Vol. 35, No. 1. Retrieved from: https://files.eric.ed.gov/fulltext/EJ1310506.pdf.

³⁴ Credential Engine (2022), Counting U.S. Postsecondary and Secondary Credentials. Retrieved from: https://credentialengine.org/wp-content/uploads/2023/01/Final-CountingCredentials_2022.pdf.

³⁵ Burning Glass Technologies (2017), The Narrow Ladder: The Value of Industry Certifications in the Job Market. Retrieved from: https://www.burning-glass.com/wp-content/uploads/BurningGlass_certifications_2017.pdf.

Another study that examined the industry-recognized credentials earned by secondary students in 30 states found that just 18 percent of credentials were aligned with employer demand.³⁶ A recent study that examined the relationship between industry-recognized credentials earned by Texas students and their post-high school education and labor market outcomes found that the universe of credentials related to success after high school, defined by the study as enrolling in postsecondary education or earning at least 200 percent of the poverty level for a single adult, was small and limited to credentials awarded within four career clusters: arts, audiovisual technology, and communications; business; health science; and information technology.³⁷ Due diligence by educators in investigating the value of different industry-recognized credentials can ensure that students focus their attention on earning only those that are in-demand and high-value.

³⁶ Burning Glass Technologies and ExcelinEd (2020), Credentials Matter Phase 2: A 2020 Update on Credential Attainment and Workforce Demand in America. Retrieved from: https://www.excelined.org/wp-content/uploads/2020/09/ExcelinEd.CredentialsMatter.Phase2_.Report.2020Update.pdf.

³⁷ Giani, M. (2022), How Industry-Recognized Credentials in High School Shape Students' Education and Employment Outcomes. Washington DC: Thomas B. Fordham Institute (August 2022). Retrieved from: https://fordhaminstitute.org/national/research/industry-recognized-credentials.

The Department is committed to advancing equity and to examining and addressing the sources of inequities in educational opportunities. Perkins V emphasizes supports for students who are members of special populations (as defined in section 3(48) of Perkins V). The populations of students described in the Perkins V definition align with many of the populations included in the definition of underserved students in the Secretary's Supplemental Priorities and Definitions for Discretionary Grants Programs, published in the Federal Register on December 10, 2021 (86 FR 70612)(Supplemental Priorities). In a future competition, the Department may choose to include one or more of the Supplemental Priorities that focus resources on underserved students.

We note that there is one related proposed program requirement to address implementation of one or more of the four pillars described in this proposed priority. It would require that each grantee's project plan include a timeline for implementation of one or more of the four pillars of career-connected learning for students served by the project, by no later than the end of the fifth year of the project. The requirement would also require each grantee to submit an annual report documenting progress on the implementation plan and the timeline. We recognize that grantees are likely to be in different stages of developing and implementing one or more of the four pillars described in the proposed priority at the onset of the grant period, and that some grantees will need more time to focus on one or more of the pillars; however, we also emphasize that implementing a cohesive and integrated plan for transforming high schools is more likely to be sustainable and effective in preparing all students equitably for their futures.

Finally, while we propose to include all four pillars of career-connected learning in this priority, in future competitions we may focus on all or a subset of the pillars.

Proposed Priority:

To meet this priority, an applicant must submit a detailed 5-year planning and implementation plan to increase the alignment of the last 2 years of high school and the first 2 years of postsecondary education in one or more high schools that describes the extent to which the applicant is currently implementing career-connected learning, with supporting data if available; and describes how the applicant will substantially increase the proportion of students who graduate from high school with one or more of the following four pillars of career connected learning:

(a) Education and career goals documented in a personalized postsecondary education and career plan (as defined in this notice) that was updated in each year of high school through a system of career guidance and academic counseling (as defined in section 3(7) of Perkins V) and postsecondary education navigation supports;

(b) Postsecondary credits earned from dual or concurrent enrollment programs (as defined in section 3 of Perkins V);

(c) Work experience gained through participation in one or more work-based learning opportunities (as defined in section 3 of Perkins V) for which they received wages or academic credit or both; or

(d) An in-demand and high-value industry-recognized credential (as defined in this notice).

Proposed Priority 2—Partnership Applications

Background:

Projects that seek to transform high schools and equip students with the knowledge and skills they will need to succeed in further learning and the labor market are likely to be more cohesive if they are carried out through a partnership that includes an LEA, a community or technical college or another IHE, and, to ensure the project prepares students for careers in demand, employers. Other relevant community stakeholders, such as local workforce development boards, labor-management partnerships, youth-serving organizations, and nonprofit organizations, may also be engaged. For this reason, the Department proposes a priority for applications submitted by an eligible applicant that includes these types of partners in implementing successful projects.

Applicants would also be required to provide a preliminary memorandum of understanding (MOU) or partnership agreement among all partner entities identified at the time of the application, that describes the roles and responsibilities of each partner in carrying out the proposed project. Understanding that some decisions about implementation may take more time and additional partners, we propose maintaining flexibility in the partnership agreement. Separately in this notice, the Department proposes to establish a requirement that PIM partnership grantees submit a formal MOU that includes all members of the partnership 120 days after the grant is awarded.

Proposed Priority:

To meet this priority, an application—

(1) Must be submitted by an applicant that includes one or more partners in each of the following categories:

(A) A local educational agency (including a public charter school local educational agency), an area career and technical education school, an educational service agency serving secondary school students, an Indian Tribe, Tribal organization, or Tribal educational agency, eligible to receive assistance under section 131 of Perkins V;

(B) A community or technical college or other institution of higher education (IHE) eligible to receive assistance under section 132 of Perkins V; and

(C) A business or industry representative partner, which may include representatives of local or regional businesses or industries;

(2) May include any other relevant community stakeholders, such as local workforce development boards, labor-management partnerships, youth-serving organizations, and nonprofit organizations; and

(3) Must include a partnership agreement or proposed memorandum of understanding (MOU) among all members of the application, identified at the time of the application, that describes the role of each partner in carrying out the proposed project and the process for a formal MOU to be established.

Proposed Priority 3—State and Regional Partnerships

Background:

To strengthen projects funded under PIM and to expand the reach of PIM funding, the Department is interested in proposed projects that would either include the participation of one or more State agencies or that would bring together multiple LEAs within a geographic region.

State agencies can play a powerful role in transforming public high schools and strengthening the alignment of secondary and postsecondary education to careers through both policymaking and the provision and use of State expertise, funding, and assets. The State higher education agency, for example, establishes minimum admissions criteria and policies to determine placement in credit-bearing coursework, while State educational agencies (SEAs) typically establish minimum high school graduation requirements. State agencies, such as an eligible agency (as defined in section 3 of Perkins V), also may connect data between elementary and secondary, postsecondary education, and workforce systems that would be helpful to projects in understanding student progression and outcomes reporting. Other examples include—

• The SEA and the State workforce development agency partnering to provide tools and training to school counselors and others involved in supporting students in creating and updating personalized postsecondary education and career plans to help them identify in-demand jobs in the State or region that pay a living wage.

• The State higher education agency establishing statewide articulation and credit transfer agreements that ensure that the postsecondary credits earned by students through dual or concurrent enrollment are accepted at all public IHEs in the State.

• The SEA waiving or altering the State's definition of instructional time so that the proposed project could consider time spent in work-based learning programs as instructional time.

• The State agency that oversees the State's longitudinal data system analyzing educational and labor market data to assist projects in identifying in-demand and high-value industry-recognized credentials.

Regional partnerships can facilitate and strengthen project implementation. For example, identifying and coordinating work-based learning opportunities may be more effective and achieve certain economies of scale if it is undertaken by a consortium that includes all of the LEAs within a particular labor market area, rather than implemented by each LEA independently. Similarly, a community or technical college that serves a geographic area that includes multiple LEAs may find it beneficial and less costly to implement new dual or concurrent policies universally within its service area, rather than limiting these policies to students enrolled at one LEA.

For these reasons, the Department proposes to establish a priority for applications submitted by State and regional partnerships.

Proposed Priority:

To meet this priority—

(a) State Partnership—A State partnership application—

(1) must be submitted by an applicant that includes one or more partners in each of the following categories:

(A) A State agency, such as an SEA, State higher education agency or system, State workforce development agency, Governor's office, or a State economic development agency; and

(B) An LEA (including a public charter school local educational agency), an area career and technical education school, an educational service agency, an Indian Tribe, Tribal organization, or Tribal educational agency, eligible to receive assistance under section 131 of Perkins V;

(C) A community or technical college or another IHE eligible to receive assistance under section 132 of Perkins V;

(D) A business or industry representative partner, which may include representatives of local or regional businesses or industries; and

(2) May include any other relevant community stakeholders, such as local workforce development boards, labor-management partnerships, youth-serving organizations, and nonprofit organizations; and

(3) Must include a description of how the project will be coordinated among partners and will leverage State resources in the achievement of program outcomes and the partnership's scope of activities that will support development or implementation of one or more of the pillars of career-connected learning, which may include setting up a governance structure to support implementation, reviewing or changing State policies, setting goals, using data to inform decisions, and convening stakeholders; and

(4) Must include a partnership agreement or proposed memorandum of understanding (MOU) among all partner entities, identified at the time of the application, that describes the role of each member of the partnership in carrying out the proposed project and the process for a formal MOU to be established.

(b) Regional Partnership—A regional partnership application—

(1) Must be submitted by a partnership that includes one or more members from each of the following categories:

(A) An LEA (including a public charter school that operates as an LEA), an area career and technical education school, an educational service agency, an Indian Tribe, Tribal organization, or Tribal educational agency, eligible to receive assistance under section 131 of Perkins V;

(B) A community or technical college or another IHE eligible to receive assistance under section 132 of Perkins V;

(C) A business or industry representative partner, which may include representatives of local or regional businesses or industries; and

(2) Must propose to serve two or more LEAs in the same State or region;

(3) May include any other relevant community stakeholders, such as local workforce development boards, labor-management partnerships, youth-serving organizations, and non-profit organizations; and

(4) Must include a description of how the project will be coordinated among partners that share a common economic region or labor market area, utilize labor market information to support development or implementation of the four pillars of career-connected learning, and leverage regional, State, or other resources in the achievement of program outcomes; and

(5) Must include a partnership agreement or proposed memorandum of understanding (MOU) among all partner entities, identified at the time of the application, that describes the role of each member of the partnership in carrying out the proposed project and the process for a formal MOU to be established.

Proposed Priority 4—Serving Students from Families with Low Incomes

Background:

Section 114(e)(4) of Perkins V instructs the Secretary to give priority to PIM projects that will predominantly serve students from low-income families.³⁸ To encourage and support efforts to increase the number of innovative and high-quality programs available to students from families with low incomes, particularly in the Nation's high-poverty communities, we propose to operationalize this statutory priority by requiring an applicant to describe its plan to serve students from families with low incomes and provide evidence that a specific minimum percentage of students from families with low incomes will be served by the project over the course of the grant project period.

³⁸ Section 114(e)(4) of Perkins V instructs the Secretary to give priority to PIM projects that will predominantly serve students from low-income families (also referred to as “families with low incomes”).

Proposed Priority:

To meet this priority, applicants must submit a plan to predominantly serve students from families with low incomes.

The plan must include—

(a) The specific activities the applicant proposes to ensure that the project will predominantly serve students from low-income families;

(b) The timeline for implementing the activities;

(c) The parties responsible for implementing the activities;

(d) The key data sources and measures demonstrating that the project is designed to predominantly serve students from low-income families; and

(e) Evidence that at least 51 percent of the students to be served by the project are from low-income families.

When demonstrating that the project is designed to predominantly serve secondary students from low-income families, the applicant must use one or more of the following data sources and measures for projects that will serve secondary students: children aged 5 through 17 in poverty counted in the most recent census data approved by the Secretary; ³⁹ students eligible for a free or reduced-price lunch under the Richard B. Russell National School Lunch Act (42 U.S.C. 1751 et seq.); students whose families receive assistance under the State program funded under part A of title IV of the Social Security Act (42 U.S.C. 601 et seq.); students who are eligible to receive medical assistance under the Medicaid program; residence in a Census tract, a set of contiguous Census tracts, an American Indian Reservation, Oklahoma Tribal Statistical Area (as defined by the U.S. Census Bureau), Alaska Native Village Statistical Area or Alaska Native Regional Corporation Area, Native Hawaiian Homeland Area, or other Tribal land as defined by the Secretary of Labor in guidance, or a county that has a poverty rate of at least 25 percent as set every 5 years using American Community Survey 5-year data; or a composite of such indicators. Applicants may use data from elementary or middle schools that feed into a secondary school to establish that 51 percent of the students to be served by the project are students from low-income families.

³⁹ The U.S. Census Bureau LEA poverty estimates are available at: www.census.gov/data/datasets/2017/demo/saipe/2017-school-districts.html.

For projects that will serve postsecondary students, the applicant must use one or more of the following data sources to demonstrate that the project is designed to predominantly serve students from families with low-incomes: students who are recipients of Federal Pell Grants or tuition assistance from the Bureau of Indian Education; students who receive, or whose families receive, assistance under the State program funded under part A of title IV of the Social Security Act (42 U.S.C. 601 et seq.); students who are eligible to receive medical assistance under the Medicaid program; or a composite of such indicators.

Proposed Priority 5—Rural Communities

Background:

Section 114(e)(5) of Perkins V directs the Department to award no less than 25 percent of PIM grant funds to projects proposing to fund career and technical education (CTE) activities that serve: (1) LEAs with an urban-centric district locale code of 32, 33, 41, 42, or 43, as determined by the Secretary (“rural communities”); ⁴⁰ (2) IHEs that primarily serve one or more areas served by such an LEA; (3) a consortium of such LEAs or IHEs; (4) a partnership between such LEAs or IHEs and an educational service agency or a nonprofit organization; or (5) a partnership between such LEAs or IHEs and a State educational agency (SEA). The 25 percent funding requirement applies, however, only if the Department receives enough applications of sufficient quality.

⁴⁰ The National Center for Education Statistics (NCES) has established 12 geographic classifications for schools and LEAs and identified corresponding locale codes. NCES classifies schools based on the type of geographic area where a school is physically located. It then classifies LEAs based on the enrollment-weighted locale assignments of the schools operated by the LEA. If a single locale accounts for a majority of the students in the LEA's schools, that locale is also assigned to the LEA. If there is not a majority, the LEA is assigned to the locale that accounts for a plurality of enrollment-weighted schools. The LEA locale codes identified in section 114(e)(5) of Perkins V correspond to the following locales: distant town (32), remote town (33), fringe rural (41), remote rural (42), and distant rural (43).

To confirm that proposed projects will serve students in rural communities (as defined in this notice), the Department proposes that an applicant identify the rural LEA(s), including by providing each LEA's NCES identification number, that it proposes to serve.

Proposed Priority:

To meet this priority, an applicant must demonstrate that the proposed project will serve students residing in rural communities (as defined in this notice) and identify, by name, National Center for Education Statistics (NCES) LEA identification number, and NCES locale code, the rural LEA(s) that it proposes to serve in its grant application. Applicants may retrieve locale codes from the NCES School District search tool (nces.ed.gov/ccd/districtsearch/).

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Proposed Requirements

Proposed Program Requirements

Background:

We propose to establish five program requirements, with respect to the matching requirement in section 114(e)(2) of Perkins V, the programs of study offered to students by each project, the independent evaluation (as defined in this notice) required by section 114(e)(8) of Perkins V, a final MOU, and a project implementation plan and timeline. We may apply these requirements in any year in which this program is in effect.

1. Matching Contributions. Section 114(e)(2) of Perkins V requires grantees to make a cash or in-kind matching contribution from non-Federal sources in an amount equal to not less than 50 percent of the funds provided under the grant. We propose to clarify that the supplanting prohibition in section 211(a) of Perkins V applies to grant funds provided under this program but does not apply to the matching requirement. This proposed clarification would enable a grantee to meet the matching requirement with non-Federal funds that were used by a grantee to support activities allowable under this program prior to its receipt of the grant. We believe this proposed clarification is consistent with the purposes of PIM to support the development and independent evaluation of innovations that, if successful, can be implemented as alternatives or improvements to existing activities and uses of funds. We also propose to clarify that contributions provided to meet the matching requirement in section 114(e)(2) of Perkins V may accrue over the duration of the first 3 years of the grant award period and, if applicable, the final 2 years of the grant award period so long as the grantee makes progress toward meeting the matching requirement in each year of the grant award period. In other words, a grantee would not be required to match 50 percent of the amount of each annual grant award but would instead be required to match 50 percent of the total grant award provided over the first 3-year project period and to make progress in meeting the requirement every year. If the project received funding for the fourth and fifth years of the project, the grantee would be required to match 50 percent of the funds provided over this two-year period. We propose this clarification because we anticipate that grantees may find it challenging to identify matching contributions at the beginning of the project period and could more readily identify contributions once the project is underway.

Section 114(e)(2)(B) of Perkins V authorizes the Secretary to waive the 50 percent matching requirement when an applicant “demonstrates exceptional circumstances.” We propose to identify illustrative examples of “exceptional circumstances” to clarify for prospective applicants the considerations the Department would make in assessing an applicant's efforts to “demonstrate exceptional circumstances.” These examples are based on examples of “exceptional circumstances” identified in section 4611(d) of the Elementary and Secondary Education Act of 1965 (ESEA) (20 U.S.C. 7261(d)), which authorizes the Secretary to waive the 10 percent matching requirement for grants awarded under the Education Innovation and Research (EIR) program on a case-by-case basis. The EIR program is similar in purpose and design to PIM because, like PIM, EIR supports the development and evaluation of innovations.⁴¹ In addition to the EIR examples, we are proposing to add as an example those IHEs that, in the current or preceding year, have been granted a waiver by the Department of certain non-Federal cost-sharing requirements under the Federal Work Study program, the Federal Supplemental Educational Opportunity Grants program, or the TRIO Student Support Services program. These waivers are granted to IHEs that have low education and general expenditures and serve a large proportion of students receiving need-based assistance under Title IV of the Higher Education Act of 1965.

⁴¹ Section 4611(a) of ESEA authorizes the Secretary to make awards under EIR to “create, develop, implement, replicate, or take to scale entrepreneurial, evidence-based, field-initiated innovations to improve student achievement and attainment for high-need students” and “rigorously evaluate such innovations.”

The examples of “exceptional circumstances” we are proposing are illustrative only and intended to provide guidance to prospective applicants on the kinds of considerations the Department would make in assessing the merits of a waiver request. We welcome comment on these proposed examples. The Department would evaluate each waiver request on a case-by-case basis, examining the individual circumstances described by an applicant. Additionally, the Department may find other circumstances that are not described in the proposed examples to be “exceptional” and for which granting a waiver is appropriate.

Proposed Requirement:

(a) A grantee must provide from non-Federal sources (e.g., State, local, or private sources), an amount equal to not less than 50 percent of funds provided under the grant, which may be provided in cash or through in-kind contributions, to carry out activities supported by the grant, except that the Secretary may waive the matching funds requirement, on a case-by-case basis, upon a showing of exceptional circumstances, such as (but not limited to)—

(1) The difficulty of raising matching funds for a program to serve a rural area.

(2) The difficulty of raising matching funds on Tribal land.

(3) The difficulty of raising matching funds in areas with a concentration of local educational agencies or schools with a high percentage of students aged 5 through 17—

(A) who are living in poverty, as counted in the most recent census data approved by the Secretary;

(B) who are eligible for a free or reduced-price lunch under the Richard B. Russell National School Lunch Act (42 U.S.C. 1751 et seq.);

(C) whose families receive assistance under the State program funded under part A of title IV of the Social Security Act (42 U.S.C. 601 et seq.); or

(D) who are eligible to receive medical assistance under the Medicaid program.

(4) The difficulty of raising matching funds by an institution of higher education that, during the current or preceding year, has been granted a waiver by the Department of certain non-Federal cost-sharing requirements under the Federal Work Study program, the Federal Supplemental Educational Opportunity Grants program, or the TRIO Student Support Services program because it has low education and general expenditures and serves a large proportion of students receiving need-based assistance under Title IV of the Higher Education Act.

(b) Non-Federal funds used by a grantee to support activities allowable under this program prior to its receipt of the grant may be used to meet the matching requirements of this program. The prohibition against supplanting non-Federal funds in section 211(a) of Perkins V applies to grant funds provided under this program but does not apply to the matching requirement.

(c) Matching funds provided by a grantee may be met over the full duration of the grant award period, rather than per year, except that the grantee must make progress towards meeting the matching requirement in each year of the grant award period.

2. Programs of Study. We propose to require that the programs of study offered by projects to students meet two requirements. First, we propose to require that, by no later than the end of the first year of the project, the portion of each program of study that is intended to be completed during high school be aligned with the entrance requirements for public IHEs in the State and those institutions' standards and criteria for accessing college-credit courses. We propose this requirement so that programs of study will prepare students for postsecondary education without need for remediation that could delay or prevent their completion of a postsecondary credential.

Second, we propose to require that projects offer students programs of study that culminate with an associate, baccalaureate, or advanced degree, or that lead seamlessly to and through a Registered Apprenticeship program. This proposed requirement would permit programs of study to include the attainment of an industry-recognized credential or a postsecondary certificate, but they could not be the terminal credential in the program of study. We propose this requirement so that students will have the opportunity to choose pathways that lead to credentials that have the greatest value in the labor market, and so that students can always choose to return to education as a means of lifelong learning and upskilling throughout their career advancement. Eight state-level longitudinal studies carried out by researchers associated with the Center for Analysis of Postsecondary Education and Employment, which was funded by the Institute of Education Sciences between 2011 and 2017, found that, for each quarter after college, the earnings of male and female associate degree holders were approximately $1,160 and $1,790 higher per quarter, respectively, than for persons who attended community college but did not earn a credential. In contrast, on average, male and female certificate holders earned approximately $530 and $740 more per quarter than persons who attended community college but did not earn a credential. In two of the state studies, moreover, the labor market returns to certificates were negative.⁴²

⁴² Belfield, C. and Bailey, T. (2017), The Labor Market Returns to Sub-Baccalaureate College: A Review. Center for Analysis of Postsecondary Education and Employment, Teachers College, Columbia University. Retrieved from: https://ccrc.tc.columbia.edu/publications/labor-market-returns-sub-baccalaureate-college-review.html.

Depending on field of study, the economic returns to bachelor's degrees are at least as high as those for associate degrees and are often considerably greater. Using data from the American Community Survey, Hamilton Project economists examined the lifetime earnings of adults at different levels of educational attainment for 80 fields of study. The lifetime median earnings of bachelor's degree graduates were at least as high as the lifetime median earnings of associate degree holders for all but four fields of study and were often much higher. The typical bachelor's degree holder earned $335,000 more in cumulative career earnings than what the typical associate degree graduate earned.⁴³

⁴³ Hershbein, B. and M. Kearney (2014), Major Decisions: What Graduates Earn Over Their Lifetimes. The Hamilton Project. Retrieved from: https://www.hamiltonproject.org/papers/major_decisions_what_graduates_earn_over_their_lifetimes.

Proposed Requirement:

By no later than the end of the first year of the project, courses in programs of study offered by grantees to students for completion during high school must be designed to meet the entrance requirements and expectations for placement in credit-bearing coursework at public, in-state IHEs. The programs of study offered to students by grantees may include opportunities to attain an industry-recognized credential or a postsecondary certificate that participating students may earn during high school but must culminate with an associate, bachelor's, or advanced degree, or completion of a Registered Apprenticeship Program, upon completion of additional postsecondary education after high school graduation.

3. Independent Evaluation. Section 114(e)(8) of Perkins V requires each grantee to support an independent evaluation of its project. We are proposing to require that this evaluation include the collection and reporting of a set of common indicators to measure, in accordance with Department instructions, the extent to which the grantee is implementing career-connected high schools and achieving the program objectives. These proposed indicators include, for example, the percentage of students who graduated from high schools served by the proposed project who, prior to or upon graduation, earned postsecondary credits through their successful participation in dual or concurrent enrollment programs, completed a work-based learning opportunity for which the student received wages or academic credit, and earned an industry-recognized credential. Consistent with section 114(e)(8)(B) of Perkins V, we further propose to require the evaluation to disaggregate these indicators by major racial and ethnic group and special population (as defined by section 3 of Perkins V). Additionally, the evaluation would assess the grantee's success in implementing any project-specific objectives and, consistent with the requirements of section 114(e)(8)(A) of Perkins V, collect data on the performance indicators established in section 113 of Perkins V. Data collected for the evaluation may also be used to support a grantee's request for funding for years 4 and 5 of the project. Under section 114(e) of Perkins V, the Department may extend PIM grants after 3 years for one additional 2-year period if the grantee demonstrates that the project is achieving its program objectives and, as applicable, has improved education outcomes for CTE students, including special populations.

Proposed Requirement:

(a) The independent evaluation (as defined in this notice) supported by a grantee must, in accordance with instructions and definitions provided by the Secretary, report annually the number and percentage of students who graduated from high schools served by the proposed project who, prior to or upon graduation—

(1) Earned, through their successful participation in dual or concurrent enrollment programs in academic or career and technical education subject areas —

(i) any postsecondary credits; and, separately,

(ii) 12 or more postsecondary credits.

(2) Completed 40 or more hours of work-based learning for which they received wages or academic credit, or both.

(3) Attained an industry-recognized credential that is in-demand in the local, regional, or State labor market and associated with one or more jobs with median earnings that exceed the median earnings of a high school graduate.

(4) Met, in each year of high school, with a school counselor, college adviser, career coach, or other appropriately trained adult for education and career counseling during which they reviewed and updated a personalized postsecondary educational and career plan (as defined by this notice).

(b) The outcomes described in paragraph (a) must be disaggregated by—

(1) Subgroups of students, described in section 1111(c)(2)(B) of the ESEA; and

(2) Special populations, as defined by section 3(48) of Perkins V; and

(c) The independent evaluation (as defined in this notice) supported by a grantee must also report annually on any project-specific indicators identified by the grantee.

4. Final MOU. Proposed Priority 2 would permit applicants submitting partnership applications to include with their applications a preliminary MOU among the partners. We propose to require grantees that submitted partnership applications to provide the Department with a final MOU within 120 days of the grant award.

Proposed Requirement:

Within 120 days of receipt of its grant award, each grantee that submitted a partnership application must submit a final memorandum of understanding (MOU) among all partner entities that describes the roles and responsibilities of the partners in carrying out the project and its activities.

5. Project Implementation Plan and Timeline. Proposed Priority 1 requires that each applicant submit a detailed 5-year planning and implementation plan to increase the alignment of the last 2 years of high school and the first 2 years of postsecondary education in one or more high schools. We propose a requirement that by no later than the end of the fifth year of the project, each grantee's project will implement one or more of the four pillars of career-connected learning, as described in Proposed Priority 1 for students served by the project, according to the applicant's project implementation plan. We propose this requirement to reinforce that the overall goal of the program is to implement a cohesive and integrated plan for transforming high schools to prepare all young people effectively and equitably for their futures. We recognize that some grantees will be further along in developing policies and programming related to one or more of the four pillars at the outset of the project period, while others will need more time to focus on starting up one or more of the pillars. Grantees will be required to submit an implementation report on an annual basis.

Proposed Requirement:

Each grantee must have a project plan that includes an implementation timeline with benchmarks to implement one or more of the four pillars of career-connected learning for students served by the project, as described in Proposed Priority 1, by no later than the end of the fifth year of the project. Each grantee will submit a progress report documenting progress on the implementation plan and the timeline on an annual basis.

Proposed Application Requirements:

We propose four application requirements, one relating to matching funds and three related to the course sequences of the programs of study that will be offered to students by the proposed project. We may apply these requirements in any year in which this program is in effect.

1. Demonstration of Matching Funds. Section 114(e)(2) of Perkins V requires each grantee to provide from non-Federal sources (e.g., State, local, or private sources), an amount equal to not less than 50 percent of funds provided under the grant, which may be provided in cash or through in-kind contributions, to carry out activities supported by the grant unless the requirement is waived due to “exceptional circumstances.” To implement this requirement, we propose to require each applicant to include in its grant application a budget detailing the source of the matching funds or a request for a waiver of the matching requirement. An applicant seeking a waiver of the matching requirements must describe and provide evidence of the exceptional circumstances that make it difficult for the applicant to provide matching funds, and an indication as to how it would carry out its proposed project if the matching requirement is not waived.

Proposed Requirement:

(a) Each applicant must provide from non-Federal sources (e.g., State, local, or private sources) an amount equal to not less than 50 percent of funds provided under the grant, which may be provided in cash or through in-kind contributions, to carry out activities supported by the grant unless it receives a waiver due to exceptional circumstances. The applicant must include in its grant application a budget detailing the source of the matching funds or a request to waive the entirety or a portion of the matching requirement due to exceptional circumstances.

(b) An applicant that is unable to meet the matching requirement must include in its application a request to the Secretary to reduce the matching requirement, including the amount of the requested reduction, the total remaining match contribution, an explanation and evidence of the exceptional circumstances that make it difficult for the applicant to provide matching funds, and an indication as to whether it can carry out its proposed project if the matching requirement is not waived.

2. Programs of Study. We propose to require each applicant to identify and describe in its application the course sequences in the programs of study that will be offered by schools in the proposed project, including the certificate of completion of a Registered Apprenticeship or associate, bachelor's, or advanced degree that students may earn by completing each program of study.

Proposed Requirement:

Each applicant must identify and describe in its application the course sequences in the programs of study that will be offered by high schools in the proposed project, including the associate, bachelor's, advanced degree, or certificate of completion of a Registered Apprenticeship that students may earn by completing each program of study, and how students served by the proposed project will have equitable access to such programs of study.

3. Secondary and Postsecondary Alignment. One of the program requirements we propose in this notice would require that, by no later than the end of the first year of the project, the secondary coursework offered to students in funded projects be designed to meet the entrance requirements and expectations for placement in credit-bearing coursework at public, in-state IHEs. We propose a complementary application requirement here. We propose this requirement in order to give peer reviewers information they need to assess the extent to which the proposed project will prepare all students for postsecondary education without need for remediation, one of the selection criteria proposed elsewhere in this notice.

Proposed Requirement:

Each applicant must describe how it has aligned or will align the secondary coursework offered to students in funded projects to meet the entrance requirements and expectations for placement in credit-bearing coursework at public, in-state IHEs. If the alignment has not been achieved at the time of application, this description must include a timeline for completion of this work by the end of the first year of the project, as well as information on the persons who will be responsible for these activities and their roles and qualifications.

4. Articulation and Credit Transfer Agreements. We propose to require each applicant to provide an assurance that, by no later than the end of the first year of the project, LEAs and IHEs participating in the project will execute articulation or credit transfer agreements that ensure that postsecondary credits earned by students in dual or concurrent enrollment programs supported by the project will be accepted for transfer at the participating IHE and count toward the requirements for earning culminating postsecondary credentials for programs of study offered to students through the project. We propose this requirement so that students' participation in dual or concurrent enrollment programs results in college credits that may be used to accelerate students' completion of a postsecondary credential.

Proposed Requirement:

Each applicant must include in its application an assurance that by no later than the end of the first year of the project, LEAs, and IHEs participating in the project will execute articulation or credit transfer agreements that ensure that postsecondary credits earned by students in dual or concurrent enrollment programs supported by the project will be accepted for transfer at each participating IHE and count toward the requirements for earning culminating postsecondary credentials for programs of study offered to students through the project.

Proposed Definitions:

The Secretary proposes the following definitions for this program. We may apply these definitions in any year in which this program is in effect.

Independent evaluation means an evaluation that is designed and carried out independent of and external to the grantee but in coordination with any employees of the grantee who developed a project component that is currently being implemented as part of the grant activities.

Industry-recognized credential means a credential that is—

(a) Developed and offered by, or endorsed by, a nationally recognized industry association or organization representing a sizable portion of the industry sector, or a product vendor;

(b) Awarded in recognition of an individual's attainment of measurable technical or occupational skills; and

(c) Sought or accepted by multiple employers within an industry or sector as a recognized, preferred, or required credential for recruitment, hiring, retention, or advancement.

Personalized postsecondary educational and career plan means a plan, developed by the student and, to the greatest extent practicable, the student's family or guardian, in collaboration with a school counselor or other individual trained to provide career guidance and academic counseling (as defined in section 3(7) of Perkins V), that is used to help establish personalized academic and career goals, explore postsecondary and career opportunities, identify programs of study and work-based learning that advance the student's personalized postsecondary education and career goals, and establish appropriate milestones and timelines for tasks important to preparing for success after high school, including applying for postsecondary education and student financial aid, preparing a resume, and completing applications for employment.

Rural community means an area served by an LEA with an urban-centric district locale code of 32, 33, 41, 42, or 43, as determined by the Secretary and defined by the National Center for Education Statistics (NCES) Locale framework.

Proposed Selection Criteria

Background:

We propose the following selection criteria for evaluating an application under this program. We may apply one or more of these criteria in any year in which this program is in effect. We propose that the Department may use one or more of the selection criteria established in the notice of final priorities, requirements, definitions, and selection criteria; any of the selection criteria in 34 CFR 75.210; or criteria based on the statutory requirements for the PIM program, in accordance with 34 CFR 75.209. In the NIA, we will announce the maximum possible points assigned to each criterion.

Proposed Selection Criteria

(a) Significance.

In determining the significance of the proposed project, the Department proposes to consider one or more of the following factors:

(1) The extent to which the proposed project addresses a regional or local labor market need identified through a comprehensive local needs assessment carried out under section 134(c) of Perkins V or labor market information produced by the State or other entity that demonstrates the proposed project will address State, regional, or local labor market needs.

(2) The extent to which the proposed project demonstrates that it will serve students who are predominantly from low-income families.

(3) The extent to which the proposed project addresses significant barriers to enrollment and completion in dual or concurrent enrollment programs and will expand access to these programs for students served by the project.

(b) Quality of the project design.

In determining the quality of the project design, the Department proposes to consider one or more of the following factors:

(1) The extent to which the proposed project is likely to be effective in increasing the successful participation in dual or concurrent enrollment programs (as defined by section 3 of Perkins V) by students who are not currently participating in such programs, and the likely magnitude of the increase.

(2) The extent to which the proposed project will increase the successful participation in work-based learning opportunities (as defined by section 3 of Perkins V) for which they received wages or academic credit, or both, prior to graduation by students who are not currently participating in such opportunities, and the likely magnitude of the increase.

(3) The extent to which the proposed project is likely to be effective in increasing successful participation in opportunities to attain an in-demand and high-value industry-recognized credential that is sought or accepted by multiple employers within an industry or sector as a recognized, preferred, or required credential for recruitment, hiring, retention, or advancement by students who are not currently participating in such opportunities, and the likely magnitude of the increase.

(4) The extent to which the proposed project will implement strategies that are likely to be effective in eliminating or mitigating barriers to the successful participation by all students in dual or concurrent programs (as defined by section 3 of Perkins V), work-based learning opportunities (as defined by section 3 of Perkins V), and opportunities to attain in-demand and high-value industry-recognized credentials (as defined in this notice), including such barriers as the out-of-pocket costs of tuition, books, and examination fees; transportation; and eligibility requirements that do not include multiple measures of assessing academic readiness.

(5) The extent to which the proposed project will provide all students effective and ongoing career guidance and academic counseling (as defined by section 3 of Perkins V) in each year of high school that—

(A) Will likely result, by no later than the end of the second year of the project, in a personalized postsecondary education and career plan for each student that is updated at least once annually with the assistance of a school counselor, career coach, mentor, or other adult trained to provide career guidance and counseling to high school students; and

(B) Includes the provision of current labor market information about careers in high-demand fields that pay living wages; advice and assistance in identifying, preparing for, and applying for postsecondary educational opportunities; information on Federal student financial aid programs; and assistance in applying for Federal student financial aid.

(6) The extent to which the proposed project is likely to prepare all students served by the project to enroll in postsecondary education following high school without need for remediation.

(c) Quality of the management plan.

In determining the quality of the management plan, the Department proposes to consider one or more of the following factors:

(1) The extent to which the project goals are clear, complete, and coherent, and the extent to which the project activities constitute a complete plan aligned to those goals, including the identification of potential risks to project success and strategies to mitigate those risks;

(2) The extent to which the management plan articulates key responsibilities for each party involved in the project and also articulates well-defined objectives, including the timelines and milestones for completion of major project activities, the metrics that will be used to assess progress on an ongoing basis, and annual performance targets the applicant will use to monitor whether the project is achieving its goals;

(3) The adequacy of the project's staffing plan, particularly for the first year of the project, including:

(A) The identification of the project director and, in the case of projects with unfilled key personnel positions at the beginning of the project, a description of how critical work will proceed; and

(B) The extent to which the project director has experience managing projects similar in scope to that of the proposed project.

(4) The extent of the demonstrated commitment of any partners whose participation is critical to the project's long-term success, including the extent of any evidence of support or specific resources from employers and other stakeholders.

(5) The extent to which employers in the labor market served by the proposed project will be involved in making decisions with respect to the project's implementation and in carrying out its activities.

(d) Support for rural communities.

In determining the extent of the project's support for rural communities, the Department proposes to consider one or more of the following factors:

(1) The extent to which the applicant presents a clear, well-documented plan for primarily serving students from rural communities.

(2) The extent to which the applicant proposes a project that will improve the education and employment outcomes of students in rural communities.

Specific Requests for Comment

We invite you to submit comments regarding the proposed priorities, requirements, definitions, and selection criteria. To ensure that your comments have maximum effect in developing the final notice, we urge you to clearly identify the specific section of the proposed priorities, requirements, definitions, and selection criteria that each comment addresses.

The Department is particularly interested in comments on:

• Whether there are additional appropriate data sources demonstrating economic disadvantage that may also be appropriate sources for family income that applicants could use to demonstrate that a project will predominantly serve students from families with low incomes;

• Whether there are additional factors the Department should consider in assessing an applicant's efforts to “demonstrate exceptional circumstances” that merit a waiver of the 50 percent matching requirement, and whether additional examples should be included.

• Whether there are important aspects of assessing the likelihood of project success that the proposed selection criteria do not address; and

• Whether there is ambiguity in the language of specific selection criteria that would make it difficult for applicants to respond to the criteria and for peer reviewers to evaluate applications with respect to the selection criteria.

Final Priorities, Requirements, Definitions, and Selection Criteria

We will announce the final priorities, requirements, definitions, and selection criteria in a notice in the Federal Register. We will determine the final priorities, requirements, definitions, and selection criteria after considering responses to this notice and other information available to the Department. This notice does not preclude us from proposing additional priorities, requirements, definitions, or selection criteria, subject to meeting applicable rulemaking requirements.

Note: This notice does not solicit applications. In any year in which we choose to use these proposed priorities and one or more of these proposed priorities, requirements, definitions, and selection criteria, we invite applications through a notice in the Federal Register.

Executive Orders 12866 and 13563

Regulatory Impact Analysis

Under Executive Order 12866, as modified by Executive Order 14094, the Secretary must determine whether this regulatory action is “significant” and, therefore, subject to the requirements of the Executive Order and subject to review by the Office of Management and Budget (OMB). Section 3(f) of Executive Order 12866, as modified, defines a “significant regulatory action” as an action likely to result in a rule that may—

(1) Have an annual effect on the economy of $200 million or more (adjusted every 3 years by the Administrator of OIRA for changes in gross domestic product); or adversely affect in a material way the economy, a sector of the economy, productivity, competition, jobs, the environment, public health or safety, or State, local, territorial, or Tribal governments or communities (also referred to as an “economically significant” rule);

(2) Create a serious inconsistency or otherwise interfere with an action taken or planned by another agency;

(3) Materially alter the budgetary impacts of entitlement grants, user fees, or loan programs or the rights and obligations of recipients thereof; or

(4) Raise novel legal or policy issues for which centralized review would meaningfully further the President's priorities or the principles stated in the Executive Order, as specifically authorized in a timely manner by the Administrator of OIRA in each case.

This proposed regulatory action is not a significant regulatory action subject to review by OMB under section 3(f) of Executive Order 12866, as modified.

We have also reviewed this proposed regulatory action under Executive Order 13563, which supplements and explicitly reaffirms the principles, structures, and definitions governing regulatory review established in Executive Order 12866, as modified. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, definitions, and selection criteria only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, territorial, and Tribal governments in the exercise of their governmental functions.

In accordance with both Executive orders, the Department has assessed the potential costs and benefits, both quantitative and qualitative, of this regulatory action. The potential costs are those resulting from statutory requirements and those we have determined as necessary for administering the Department's programs and activities.

Summary of Costs and Benefits: The Department believes that these proposed priorities, requirements, selection criteria, and definitions would not impose significant costs on applicants applying for assistance under section 114 of Perkins V. We also believe that the benefits of implementing the proposed priorities, requirements, definitions, and selection criteria justify any associated costs.

The Department believes that the proposed priorities, requirements, definitions, and selection criteria would help to ensure that grants provided under section 114(e) of Perkins V are awarded only for allowable, reasonable, and necessary costs; and eligible applicants consider carefully in preparing their applications how the grants may be used to improve student success in secondary education, postsecondary education, and careers. The proposed priorities, program requirements, selection criteria, and related definitions are necessary to ensure that taxpayer funds are expended appropriately.

The Department further believes that the costs imposed on an applicant by the proposed priorities, requirements, selection criteria, and definitions would be largely limited to the paperwork burden related to meeting the application requirements and that the benefits of preparing an application and receiving an award would justify any costs incurred by the applicant. The costs of these proposed requirements and definitions would not be a significant burden for any eligible applicant.

Elsewhere in this section under Paperwork Reduction Act of 1995, we identify and explain burdens specifically associated with information collection requirements.

Paperwork Reduction Act

As part of its continuing effort to reduce paperwork and respondent burden, the Department provides the general public and Federal agencies with an opportunity to comment on proposed and continuing collections of information in accordance with the Paperwork Reduction Act of 1995 (PRA) (44 U.S.C. 3501 et seq.). This helps ensure that the public understands the Department's collection instructions, respondents provide the requested data in the desired format, reporting burden (time and financial resources) is minimized, collection instruments are clearly understood, and the Department can properly assess the impact of collection requirements on respondents.

The proposed requirements contain information collection requirements. Under the PRA the Department has submitted these requirements to OMB for its review.

A Federal agency may not conduct or sponsor a collection of information unless OMB approves the collection under the PRA and the corresponding information collection instrument displays a currently valid OMB control number. Notwithstanding any other provision of the law, no person is required to comply with, or is subject to penalty for failure to comply with, a collection of information if the collection instrument does not display a currently valid OMB control number.

In the notice of final priorities, requirements, definitions, and selection criteria we will display the control number assigned by OMB to any information collection proposed in this document and adopted in the notice of final priorities, requirements, definitions, and selection criteria.

For the years that the Department holds a PIM grant competition, we estimate 150 entities will apply and submit an application. We estimate that it will take each applicant 40 hours to complete and submit the application, including time for reviewing instructions, searching existing data sources, gathering, and maintaining the data needed, and completing and reviewing the collection of information. The total burden hour estimate for this collection is 6,000 hours. At $97.82 per hour (using mean wages for Education and Childcare Administrators ⁴⁴ and assuming the total cost of labor, including benefits and overhead, is equal to 200 percent of the mean wage rate), the total estimated cost for 150 applicants to complete the PIM application is approximately $583,680. The Department is requesting paperwork clearance on the OMB 1830-NEW data collection associated with this proposed requirement. That request will account for all burden hours and costs discussed within this section.

⁴⁴ See http://www.bls.gov/oes/current/oes_nat.htm.

Consistent with 5 CFR 1320.8(d), the Department is soliciting comments on the information collection. We must receive your comments on the collection activities contained in these proposed priorities, requirements, definitions, and selection criteria on or before June 15, 2023. Comments related to the information collection activities must be submitted electronically through the Federal eRulemaking Portal at www.regulations.gov by selecting the Docket ID number ED-2023-OCTAE-0048 or via postal mail, commercial delivery, or hand delivery by referencing the Docket ID number and the title of the information collection request at the top of your comment. Comments submitted by postal mail or delivery should be addressed to the PRA Coordinator of the Strategic Collections and Clearance Governance and Strategy Division, U.S. Department of Education, 400 Maryland Avenue SW, Room 6W208D, Washington, DC 20202-8240.

Note: The Office of Information and Regulatory Affairs and the Department review all comments related to the information collection activities posted at www.regulations.gov.

Collection of Information
Information collection activity | Estimated number of responses | Hours per response | Total estimated burden hours | Estimated cost at an hourly rate of $97.82
PIM Application | 150 | 40 | 6,000 | $583,680

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques.

Intergovernmental Review: This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Accessible Format: On request to the person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Amy Loyd,
Assistant Secretary for Career, Technical, and Adult Education.

[FR Doc. 2023-10220 Filed 5-15-23; 8:45 am]

BILLING CODE 4000-01-P